DEPARTMENT OF COMMERCE

National Oceanic and Atmospheric Administration

50 CFR Part 217

[Docket No 221214-0271]

RIN 0648-BL52

Takes of Marine Mammals Incidental to Specified Activities; Taking Marine Mammals Incidental to the Revolution Wind Offshore Wind Farm Project Offshore Rhode Island; Extension of Public Comment Period

AGENCY: National Marine Fisheries Service (NMFS), National Oceanic and Atmospheric Administration (NOAA), Commerce.

ACTION: Notice; extension of public comment period.

SUMMARY: On December 23, 2022, NMFS published a proposed rule, with a 30-day public comment period ending January 23, 2023, in response to Revolution Wind, LLC's (Revolution Wind's) request for regulations and an associated Letter of Authorization (LOA), pursuant to the Marine Mammal Protection Act (MMPA). The proposed regulations would allow for the taking of marine mammals, by Level A harassment and Level B harassment, incidental to the Revolution Wind Offshore Wind Farm Project offshore of Rhode Island. In response to a request, NMFS is announcing an extension of the public comment period by an additional 15 days. The public comment period on the proposed rule is extended from January 23, 2023, to February 7, 2023.

DATES: The deadline for receipt of comments on the proposed rule published on December 23, 2022 (87 FR 79072), is extended from January 23, 2023, to February 7, 2023.

ADDRESSES: Submit all electronic public comments via the Federal e-Rulemaking Portal. Go to www.regulations.gov and enter NOAA-NMFS-2022-0127 in the Search box. Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Carter Esch, Office of Protected Resources, NMFS, (301) 427-8401.

SUPPLEMENTARY INFORMATION:

Background

On December 23, 2022, NMFS published a proposed rulemaking in response to Revolution Wind's request that NMFS authorize the taking, by Level A harassment and Level B harassment, of marine mammals incidental to the Revolution Wind Offshore Wind Farm Project, located offshore of Rhode Island in and around lease area OCS-A-0486. When published, the proposed rule (87 FR 79072; December 23, 2022) allowed for a 30-day public comment period, ending on January 23, 2023. On December 23, 2022, we received a request from the Natural Resource Defense Council (NRDC) for a 15-day extension of the public comment period. NMFS considered the request and the permitting timelines for this project and, in this case, is extending the comment period on the proposed rule for an additional 15 days to provide further opportunity for public comment. This extension provides a total of 45 days for public input on the proposed rule.

All comments and information submitted previously regarding the proposed rule for Revolution Wind will be fully considered during the development of the final rule and LOA, if determined to be promulgated and issued, and do not need to be resubmitted.

Information Solicited

Interested persons may submit information, suggestions, and comments concerning the proposed rulemaking for the Revolution Wind Offshore Wind Farm Project (see ADDRESSES). NMFS will consider all information, suggestions, and comments from both the initial and extended public comment periods during the development of final regulations governing the incidental taking of marine mammals by Revolution Wind, if appropriate.

Dated: January 12, 2023.
Kimberly Damon-Randall,
Director, Office of Protected Resources, National Marine Fisheries Service.

[FR Doc. 2023-00900 Filed 1-18-23; 8:45 am]

BILLING CODE 3510-22-P